DEPARTMENT OF HEALTH AND HUMAN SERVICES

Centers for Disease Control and Prevention

[60Day-08-08AP]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Youth Advice and Feedback to Inform Choose Respect Implementation (New)—National Center for Injury Prevention and Control (NCIPC), Centers for Disease Control and Prevention (CDC).

Background and Brief Description

NCIPC seeks to obtain, over a five year period, advice and feedback from tweens/teens (aged 11-14) regarding message development/placement, creative executions, appropriate partners, and other similar issues, to inform ongoing implementation and evaluation of the Choose Respect campaign (OMB#0920-0687 Expired 5/31/2006), an initiative intended to promote youth awareness of and participation in healthy peer relationships. Communication research indicates that campaign planning implementation must employ a consumer-oriented approach to ensure that program messages/materials, and their placement, can successfully gain the attention of and resonate with the intended audience. To that end, the NCIPC proposes conducting further planning, implementation, and evaluation research that enlists the involvement and support of youth, parents and other influencers and measures the effect of the campaign on the target audiences. The evaluation will provide interim and ongoing feedback to campaign planners regarding the implementation and progress of the campaign.

The proposed data collection will enlist geographically, culturally/racially/ethnically, and socio-economically diverse groups of young people to complete: (1) Ten minute online surveys, with 30 respondents, six times per year; and (2) 12 in-person focus groups, with 12 participants each, twice per year. Online surveys will reduce the potential burden for young people as web-based formats are convenient and consistent with the way they communicate and spend their leisure time and will involve a different group of 30 tweens/teens. In-person focus groups will involve different groups of young people and will be segmented by age and gender.

There are no costs to respondents other than their time.

Estimate of Annualized Burden Hours
Respondents | Number of respondents | Number of responses per respondent | Average burden per response (In hrs) | Total burden hours
Online survey: Boys and girls, aged 11-14 | 30 | 6 | 10/60 | 30
Focus group: Boys, aged 11-12, urban | 12 | 2 | 1.5 | 36
Focus group: Boys, aged 11-12, suburban | 12 | 2 | 1.5 | 36
Focus group: Girls, aged 11-12, urban | 12 | 2 | 1.5 | 36
Focus group: Girls, aged 11-12, suburban | 12 | 2 | 1.5 | 36
Focus group: Boys, aged 12-13, urban | 12 | 2 | 1.5 | 36
Focus group: Girls, aged 12-13, suburban | 12 | 2 | 1.5 | 36
Focus group: Boys, aged 12-13, suburban | 12 | 2 | 1.5 | 36
Focus group: Girls, aged 12-13, urban | 12 | 2 | 1.5 | 36
Focus group: Boys, aged 13-14, urban | 12 | 2 | 1.5 | 36
Focus group: Boys, aged 13-14, suburban | 12 | 2 | 1.5 | 36
Focus group: Girls, aged 13-14, urban | 12 | 2 | 1.5 | 36
Focus group: Girls, aged 13-14, suburban | 12 | 2 | 1.5 | 36
Totals | 174 |  |  | 462

Dated: February 5, 2008.
Maryam I. Daneshvar,
Acting Reports Clearance Officer, Centers for Disease Control and Prevention.

[FR Doc. E8-2508 Filed 2-11-08; 8:45 am]

BILLING CODE 4163-18-P